DEPARTMENT OF DEFENSE

GENERAL SERVICES ADMINISTRATION

NATIONAL AERONAUTICS AND SPACE ADMINISTRATION

48 CFR Parts 22, 25, and 52

[FAC 2001-02; FAR Case 2001-025; Item VIII]

RIN 9000-AJ26

Federal Acquisition Regulation; Iceland—Newly Designated Country Under the Trade Agreements Act

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to implement the accession of Iceland to the Agreement on Government Procurement, by adding Iceland as a designated country under the Trade Agreements Act.

DATES: Effective Date: December 18, 2001.

FOR FURTHER INFORMATION CONTACT: The FAR Secretariat, Room 4035, GS Building, Washington, DC, 20405, (202) 501-4755, for information pertaining to status or publication schedules. For clarification of content, contact Ms. Cecelia Davis, Procurement Analyst, at (202) 219-0202. Please cite FAC 2001-02, FAR case 2001-025.

SUPPLEMENTARY INFORMATION:

A. Background

This final rule amends FAR 25.003, the clause at FAR 52.225-5, Trade Agreements, and the clause at 52.225-11, Buy American Act—Balance of Payments Program—Construction Materials under Trade Agreements, to add Iceland to the list of designated countries under the Trade Agreements Act (TAA).

In addition, if the TAA applies, Executive Order 13126 of June 12, 1999, Prohibition of Acquisition of Products Produced by Forced or Indentured Child Labor, does not apply to contracts for the acquisition of products from foreign countries that are party to the Agreement on Government Procurement. Therefore, this final rule also adds Iceland to the list of excepted countries of origin at 22.1503(b)(4) and the associated clause at 52.222-19, Child Labor—Cooperation with Authorities and Remedies.

This is not a significant regulatory action, and therefore, was not subject to review under Section 6(b) of Executive Order 12866, Regulatory Planning and Review, dated September 30, 1993. This rule is not a major rule under 5 U.S.C. 804.

B. Regulatory Flexibility Act

This final rule does not constitute a significant FAR revision within the meaning of FAR 1.501 and Public Law 98-577, and publication for public comment is not required. However, the Councils will consider comments from small entities concerning the affected FAR part 25 in accordance with 5 U.S.C. 610. Interested parties must submit such comments separately and should cite 5 U.S.C. 601, et seq. (FAC 2001-02, FAR case 2001-025), in correspondence.

C. Paperwork Reduction Act

The Paperwork Reduction Act does not apply because the changes to the FAR do not impose information collection requirements that require the approval of the Office of Management and Budget under 44 U.S.C. 3501, et seq.

List of Subjects in 48 CFR Parts 22, 25, and 52

Government procurement.

Dated: December 5, 2001.
Al Matera,
Director, Acquisition Policy Division.

Therefore, DoD, GSA, and NASA amend 48 CFR parts 22, 25, and 52 as set forth below:

1. The authority citation for 48 CFR parts 22, 25, and 52 continues to read as follows:

Authority: 40 U.S.C. 486(c); 10 U.S.C. chapter 137; and 42 U.S.C. 2473(c).

PART 22—APPLICATION OF LABOR LAWS TO GOVERNMENT ACQUISITIONS

22.1503 [Amended]

2. In section 22.1503, amend paragraph (b)(4) by adding “Iceland,” after “Hong Kong,”.

PART 25—FOREIGN ACQUISITION

25.003 [Amended]

3. In section 25.003, amend the definition “Designated country” by adding, in alphabetical order, the word “Iceland”.

PART 52—SOLICITATION PROVISIONS AND CONTRACT CLAUSES

52.222-19 [Amended]

4. In section 52.222-19, revise the date of the clause by removing “(FEB 2001)” and adding “(DEC 2001)” in its place; and in paragraph (a)(4) remove “Hong Kong,” and add “Hong Kong, Iceland,” in its place.

52.225-5 [Amended]

5. In section 52.225-5, revise the date of the clause by removing “(APR 2000)” and adding “(DEC 2001)” in its place; and in paragraph (a) in the definition “Designated country” add, in alphabetical order, the word “Iceland”.

52.225-11 [Amended]

6. In section 52.225-11, revise the date of the clause by removing “(FEB 2000)” and adding “(DEC 2001)” in its place; and in paragraph (a) in the definition “Designated country,” add, in alphabetical order, the word “Iceland”.

[FR Doc. 01-30545 Filed 12-17-01; 8:45 am]

BILLING CODE 6820-EP-P